SMALL BUSINESS ADMINISTRATION

13 CFR Parts 121, 124, 125, 126, and 127

RIN 3245-AH70

Ownership and Control and Contractual Assistance Requirements for the 8(a) Business Development Program; Correction

AGENCY: U.S. Small Business Administration.

ACTION: Final rule; correction.

SUMMARY: The U.S. Small Business Administration (SBA or Agency) is correcting a final rule in the Federal Register on April 27, 2023. The rule made several changes to the ownership and control requirements for the 8(a) Business Development (BD) program, several changes relating to 8(a) contracts, and several revisions to incorporate changes to SBA's other government contracting programs. This correction fixes a citation error contained in the April 27th final rule.

DATES: Effective May 30, 2023.

FOR FURTHER INFORMATION CONTACT: Mark Hagedorn, U.S. Small Business Administration, Office of General Counsel, 409 Third Street SW, Washington, DC 20416; (202) 205-7625; mark.hagedorn@sba.gov.

SUPPLEMENTARY INFORMATION: In FR Doc. 2023-07855 appearing on page 26164 in the Federal Register on Thursday, April 27, 2023 (88 FR 26164), the following correction is made:

§ 124.509 [Corrected]

1. On page 26208, in the second column, in § 124.509, paragraph (c)(1) is corrected to read as follows:

“(c) * * *

(1) As part of its annual review after being admitted to the 8(a) BD program, a Participant must provide to SBA within 30 days from the end of its program year:

(i) Annual financial statements with a breakdown of 8(a) and non-8(a) revenue in accord with § 124.602; and

(ii) An estimate of 8(a) and non-8(a) revenue derived during the program year, which may be obtained from monthly, quarterly or semi-annual interim financial statements or otherwise.”

Larry Stubblefield,
Acting Associate Administrator, for Government Contracting and Business Development.

[FR Doc. 2023-09590 Filed 5-4-23; 8:45 am]

BILLING CODE 8026-03-P